FEDERAL ELECTION COMMISSION

Sunshine Act Meeting

AGENCY: Federal Election Commission.

Previously Announced Date & Time:

Tuesday, June 25, 2002, Meeting Closed to the Public. This Meeting was Rescheduled for Wednesday, June 26, 2002.

Date & Time: Tuesday, July 16, 2002 at 10 a.m.

Place: 999 E Street, NW., Washington, DC.

Status: This Meeting Will be Closed to the Public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date & Time: Thursday, July 18, 2002 at 10 a.m.

Place: 999 E Street, NW., Washington DC, (Ninth Floor).

Status: This Meeting Will be Open to the Public.

Items to be Discussed: Correction and Approval of Minutes.

Draft Advisory Opinion 2002-07: Careau & Co. and Mohre Communications by Robert F. Carrot, President.

Administrative Matters.

Person To Contact for Information: Mr. Ron Harris, Press Officer, Telephone: (202) 694-1220.

Mary W. Dove,
Secretary of the Commission.

[FR Doc. 02-17517 Filed 7-9-02; 11:37 am]

BILLING CODE 6715-01-M